SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before September 16, 2002.

ADDRESSES: Send all comments regarding whether this information collection is necessary for the proper performance of the function of the agency, whether the burden estimates are accurate, and if there are ways to minimize the estimated burden and enhance the quality of the collection, to Brenda Washington, Lead Analyst, Office HUBZone Empowerment, Small Business Administration, 409 3rd Street, SW., Suite 8000, Washington DC 20416

FOR FURTHER INFORMATION CONTACT: Brenda Washington, Lead Analyst, (202) 205-7663 or Curtis B. Rich, Management Analyst, (202) 205-7030.

SUPPLEMENTARY INFORMATION: Title: HUBZone Empowerment Contracting Program Application.

Form No: 2103.

Description of Respondents: Small Businesses Seeking Certification as a Qualified HUBZone Small Business Concern.

Annual Responses: 20,000.

Annual Burden: 20,000.

Jacqueline White,
Chief, Administrative Information Branch.

[FR Doc. 02-17954 Filed 7-16-02; 8:45 am]

BILLING CODE 8025-01-P